DEPARTMENT OF COMMERCE

International Trade Administration

[A-570-838]

Notice of Postponement of Preliminary Results of Antidumping Duty Administrative Review: Suspension Agreement on Honey from the People's Republic of China

AGENCY: Import Administration, International Trade Administration, Department of Commerce.

ACTION: Notice of postponement of preliminary results of antidumping duty administrative review.

EFFECTIVE DATE: May 4, 2000.

FOR FURTHER INFORMATION CONTACT: Becky J. Hagen or James C. Doyle, Office IX, DAS Group III, Import Administration, International Trade Administration, U.S. Department of Commerce, 14th Street and Constitution Avenue, NW, Washington, DC 20230; telephone (202) 482-3362 and (202) 482-0159, respectively.

Postponement of Preliminary Results

The Department of Commerce (“the Department”) is postponing the preliminary results in the antidumping administrative review of the Suspension Agreement on Honey from the People's Republic of China (“PRC”). The deadline for issuing the preliminary results in these administrative reviews is now August 30, 2000.

On August 30, 1999, the Department initiated this administrative review, setting May 2, 2000 as the date for issuing the preliminary results of the review. See Initiation of Antidumping and Countervailing Duty Administrative Reviews and Requests for Revocation in Part, August 30, 1999 (64 FR 53318). Because it is only the second time a review of a suspension agreement involving export limits and reference prices has been initiated by the Department, raising novel legal and enforcement issues, we have determined that it is not practicable to complete this review within the normal time frame and are therefore extending the time limit for these preliminary results of the administrative review of the Suspension Agreement on Honey from the PRC by 120 days, in accordance with section 751(a)(3)(A) of the Tariff Act of 1930, as amended.

The date for issuing the preliminary results is moved from May 2, 2000 to August 30, 2000.

Dated: April 28, 2000.
Joseph A. Spetrini,
Deputy Assistant Secretary, AD/CVD Enforcement Group III.

[FR Doc. 00-11172 Filed 5-3-00; 8:45 am]

BILLING CODE 3510-DS-P